DEPARTMENT OF COMMERCE

International Trade Administration

[A-475-822]

Stainless Steel Plate in Coils From Italy; Notice of Rescission of Antidumping Duty Administrative Review

AGENCY: Import Administration, International Trade Administration, Department of Commerce.

ACTION: Notice of rescission of antidumping duty administrative review.

SUMMARY: In response to a request from Acciai Speciali Terni S.p.A. (“AST”), an Italian producer of stainless steel plate in coils, and Acciai Speciali Terni USA, Inc. (“AST USA”), collectively referred to as AST/AST USA, the Department of Commerce (“the Department”) initiated an administrative review of the antidumping duty order on stainless steel plate in coils from Italy on July 7, 2000, for one manufacturer/exporter of the subject merchandise, AST/AST USA, for the period November 4, 1998 through April 30, 2000. The Department received a timely request for withdrawal on July 19, 2000, from AST/AST USA. This review has now been rescinded as a result of the withdrawal of the request for review by AST/AST USA, the only party which requested the review.

EFFECTIVE DATE: August 2, 2000.

FOR FURTHER INFORMATION CONTACT: Carrie Blozy, Import Administration, International Trade Administration, U.S. Department of Commerce, 14th Street and Constitution Avenue, NW, Washington DC 20230; telephone: (202) 482-0165.

SUPPLEMENTARY INFORMATION:

The Applicable Statute

Unless otherwise indicated, all citations to the statute are references to the provisions effective January 1, 1995, the effective date of the amendments made to the Tariff Act of 1930 (the Act) by the Uruguay Round Agreements Act (URAA). In addition, unless otherwise indicated, all citations to the Department's regulations are to the regulations at 19 CFR part 351 (April 1999).

Background

On May 31, 2000 AST/AST USA submitted a request for an administrative review of the antidumping duty order on stainless steel plate in coils from Italy pursuant to the Notice of Opportunity to Request Administrative Review, 65 FR 31141 (May 16, 2000).

On July 7, 2000, the Department initiated a review of the antidumping duty order on stainless steel plate in coils from Italy. See Notice of Initiation of Antidumping and Countervailing Duty Administrative Reviews and Requests for Revocations in Part, 65 FR 41942 (July 7, 2000). On July 19, 2000, AST/AST USA submitted a timely request for a withdrawal of its request for a review.

Rescission of Review

Pursuant to 19 CFR 351.213(d)(1) of the Department's regulations, the Department will allow a party that requests an administrative review to withdraw such request within 90 days of the date of publication of the notice of initiation of the administrative review. Because AST/AST USA's withdrawal request was submitted within the 90-day time limit, and there were no requests for review from other interested parties, we are rescinding this review. We will issue appropriate appraisement instructions directly to the U.S. Customs Service.

This notice is in accordance with section 777(i) of the Act and 19 CFR 351.213(d)(4).

Dated: July 27, 2000.
Joseph A. Spetrini,
Deputy Assistant Secretary, AD/CVD Enforcement Group III.

[FR Doc. 00-19544 Filed 8-1-00; 8:45 am]

BILLING CODE 3510-DS-P